DEPARTMENT OF HEALTH AND HUMAN SERVICES

Centers for Disease Control and Prevention

[30Day-23-22FS]

Agency Forms Undergoing Paperwork Reduction Act Review

In accordance with the Paperwork Reduction Act of 1995, the Centers for Disease Control and Prevention (CDC) has submitted the information collection request titled “Artificial Stone Countertops: Exposures, Controls, Surveillance, & Translation” to the Office of Management and Budget (OMB) for review and approval. CDC previously published a “Proposed Data Collection Submitted for Public Comment and Recommendations” notice on June 02, 2022 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Artificial Stone Countertops: Exposures, Controls, Surveillance, & Translation—New—National Institute for Occupational Safety and Health (NIOSH), Centers for Disease Control and Prevention (CDC).

Background and Brief Description

As a recently introduced technology in the United States, the Artificial Stone (AS) Countertop industry is not well defined; the obligation to monitor workers' health might not be known, considered, or understood; and education on potential hazard and health risks related to respirable crystalline silica (RCS) is limited. Exposure is associated with the development of silicosis, an irreversible, sometimes fatal, but preventable lung disease. Twenty-four cases of silicosis, including two deaths, have been reported among AS fabrication workers in the United States. The anticipated impacts of this project are increased understanding of industry scale, practices, and medical monitoring, and increased collaboration and communication to inform the AS Countertop industry of industry hazards, methods to mitigate exposure, and improve medical surveillance. Understanding how or if current RCS recommendations and regulations are used by various AS Countertop fabrication facilities will identify approaches for improved intervention.

The purpose of the proposed collection is to conduct a survey with AS Countertop fabrication facilities to better understand: (1) work practices and controls related to respirable crystalline silica; (2) barriers or facilitators to implementation of medical and exposure monitoring requirements; (3) identify areas for potential intervention; and (4) identify countertop fabrication facilities willing to participate in future NIOSH exposure and health research.

The estimate of burden hours is based on an internal pilot test of the survey instrument. The average time for reviewing instructions, gathering mock information, and completing the survey was between 10-30 minutes. For the purposes of estimating burden hours, the median time to complete the survey is used. An estimated 8,600 respondents are anticipated to participate in the survey. for 2,150 annual burden hours. There are no costs to respondents other than their time to participate.

Estimated Annualized Burden Hours
Type of respondents | Form name | Number of respondents | Number of responses per respondent | Average burden per response (in hours)
Facility Managers/Owners | Workplace Survey | 8,600 | 1 | 15/60

Jeffrey M. Zirger,
Lead, Information Collection Review Office, Office of Scientific Integrity, Office of Science, Centers for Disease Control and Prevention.

[FR Doc. 2023-03959 Filed 2-24-23; 8:45 am]

BILLING CODE 4163-18-P